COMMITTEE FOR PURCHASE FROM PEOPLE WHO ARE BLIND OR SEVERELY DISABLED

Procurement List Proposed Additions And Deletions

AGENCY: Committee for Purchase From People Who Are Blind or Severely Disabled.

ACTION: Proposed Additions to and Deletions from the Procurement List.

SUMMARY: The Committee is proposing to add a product and services to the Procurement List that will be furnished by nonprofit agencies employing persons who are blind or have other severe disabilities and to delete products previously furnished by such agencies.

DATES: Comments Must Be Received On or Before: November 15, 2010.

ADDRESSES: Committee for Purchase From People Who Are Blind or Severely Disabled, Jefferson Plaza 2, Suite 10800, 1421 Jefferson Davis Highway, Arlington, Virginia, 22202-3259.

FOR FURTHER INFORMATION CONTACT: Patricia Briscoe, Telephone: (703) 603-7740, Fax: (703) 603-0655, or e-mail CMTEFedReg@AbilityOne.gov.

SUPPLEMENTARY INFORMATION: This notice is published pursuant to 41 U.S.C 47(a) (2) and 41 CFR 51-2.3. Its purpose is to provide interested persons an opportunity to submit comments on the proposed actions.

Additions

If the Committee approves the proposed additions, the entities of the Federal Government identified in this notice will be required to procure the product and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the product and services to the Government.

2. If approved, the action will result in authorizing small entities to furnish the product and services to the Government.

3. There are no known regulatory alternatives which would accomplish the objectives of the Javits-Wagner-O'Day Act (41 U.S.C. 46-48c) in connection with the product and services proposed for addition to the Procurement List.

Comments on this certification are invited. Commenters should identify the statement(s) underlying the certification on which they are providing additional information.

End of Certification

The following product and services are proposed for addition to Procurement List for production by the nonprofit agencies listed:

Product

NSN: 8345-00-NSH-0015—Yellow Vinyl Panel Marker

NPA: Development Workshop, Inc., Idaho Falls, ID

Contracting Activity: BUREAU OF LAND MANAGEMENT, FA-NATIONAL INTERAGENCY FIRE CENTER, BOISE, ID

Coverage: C-List for 100% of the requirement of the FA-National Interagency Fire Center as aggregated by the Bureau of Land Management, FA-National Interagency Fire Center.

Services

Service Type/Location: Property Management Service, National Park Service Horace M. Albright Training Center, 1 Albright Avenue Grand Canyon, AZ

NPA: Trace, Inc., Boise, ID

Contracting Activity: DEPT OF THE INTERIOR, NATIONAL PARK SERVICE, DENVER SERVICE CENTER (DSC), DENVER, CO

Service Type/Location: Custodial Service, FEMA Louisiana Recovery Office, 1500 Main Street, Baton Rouge, LA

NPA: Goodworks, Inc., Metairie, LA

Contracting Activity: DEPT OF HOMELAND SECURITY, FEDERAL EMERGENCY MANAGEMENT AGENCY, BATON ROUGE, LA

Deletions

Regulatory Flexibility Act Certification

I certify that the following action will not have a significant impact on a substantial number of small entities. The major factors considered for this certification were:

1. If approved, the action will not result in additional reporting, recordkeeping or other compliance requirements for small entities.

2. If approved, the action may result in authorizing small entities to furnish the products to the Government.

3. There are no known regulatory alternatives which would accomplish the objectives of the Javits-Wagner-O'Day Act (41 U.S.C. 46-48c) in connection with the products proposed for deletion from the Procurement List.

End of Certification

The following products are proposed for deletion from the Procurement List:

Products:

Hanger, Magnetic (Picture)

NSN: 5340-00-916-4209—6x6″

NSN: 5340-00-916-4208—6x7″

NSN: 5340-00-916-4207—3x6″

NPA: Knox County Association for Retarded Citizens, Knoxville, TN

Contracting Activity: GSA/FAS SOUTHWEST SUPPLY CENTER (QSDAC), FORT WORTH, TX

Blanket, Bed

NSN: 7210-00-177-4986

NPA: Chautauqua County Chapter, NYSARC, Jamestown, NY

Contracting Activity: GSA/FAS SOUTHWEST SUPPLY CENTER (QSDAC), FORT WORTH, TX

Toner, Cartridges, New

NSN: 7510-01-417-1222

NPA: Alabama Industries for the Blind, Talladega, AL

Contracting Activity: GSA/FSS OFC SUP CTR—PAPER PRODUCTS, NEW YORK, NY

Patricia Briscoe,
Deputy Director, Business Operations.

[FR Doc. 2010-26046 Filed 10-14-10; 8:45 am]

BILLING CODE 6353-01-P